AGENCY FOR INTERNATIONAL DEVELOPMENT

FY 2011 Emergency Food Assistance Annual Program Statement

Pursuant to the Food for Peace Act of 2008 and the Foreign Assistance Act of 1961 (FAA), notice is hereby given that the FY 2011 Emergency Food Assistance Annual Program Statement is available to interested parties for general viewing.

For individuals who wish to review, the FY 2011 Emergency Food Assistance Annual Program Statement is available via the Food for Peace Web site: http://www.usaid.gov/our_work/humanitarian_assistance/ffp/emergency.html on or about April 18, 2011. Interested parties can also receive a copy of the FY 2011 Emergency Food Assistance Annual Program Statement by contacting the Office of Food for Peace, U.S. Agency for International Development, RRB 7.06-152, 1300 Pennsylvania Avenue, NW., Washington, DC 20523-7600.

Juli Majernik,
Grants Manager, Policy and Technical Division, Office of Food for Peace, Bureau for Democracy, Conflict and Humanitarian Assistance.

[FR Doc. 2011-9997 Filed 4-25-11; 8:45 am]

BILLING CODE P